DEPARTMENT OF THE INTERIOR

Bureau of Land Management

[CO-200-1430-EU]

Notice of Realty Action

AGENCY: Bureau of Land Management, Interior.

ACTION: Direct sale of public lands in Boulder County, Colorado.

SUMMARY: The following described lands have been examined and found suitable for disposal by direct sale under section 203 of the Federal Land Policy and Management Act of 1976 (43 U.S.C. 1713) at no less than the appraised fair market value. The land will not be offered for sale until at least 60 days after the date of this notice.

COC-64710

6th Principal Meridian, Colorado

T. 1 N., R. 73 W., section 12: Lot 54 containing 1.95 acres, more or less.

COC-63204

6th Principal Meridian, Colorado

T. 1 N., R. 72 W., section 6: Lots 128, 131, 132, 133, 134 containing 1.21 acres, more or less.

The land has been classified for disposal pursuant to section 7 of the Taylor Grazing Act. The lands described in this Notice were identified for disposal in a land use plan which was in effect on July 25, 2000, and proceeds from these sales will be deposited in the Federal Land Disposal Account authorized under section 206 of the Federal Land Transaction Facilitation Act, Pub. L. 106-248. The land described is segregated by a previous segregation, COC-63471, dated December 21, 1999. The land is segregated from location, entry or patenting under the general mining laws and from appropriation under the public land laws, except as to land exchange, Recreation and Public Purposes lease and patent, or direct sale under section 203 of the Federal Land Policy and Management Act of October 21, 1976 to resolve inadvertent trespass. Native American consultation has been completed on lands managed by the Bureau of Land Management in Boulder County.

The land will be offered as follows: COC-64710 to County of Boulder and COC-63204 to Lenore Seiler. These lands will be offered to resolve historic unauthorized residential use. The patents, when issued, will contain a reservation of all minerals to the United States and will be subject to any existing rights of record. Detailed information concerning these reservations as well as specific conditions of the sale will be available upon request.

DATES: For a period of 45 days from the date of publication of this notice in the Federal Register, Interested parties may submit comments to Roy Masinton, Field Office Manager, at the address listed below. In the absence of timely objections, this proposal shall become the final determination of the Department of the Interior.

ADDRESSES: Bureau of Land Management, Royal Gorge Field Office, 3170 East Main St., Canon City, Colorado 81212.

FOR FURTHER INFORMATION CONTACT: Jan Fackrell, Realty Specialist (719) 269-8525.

Dated: January 3, 2002.
Roy L. Masinton,
Field Office Manager.

[FR Doc. 02-4314 Filed 2-21-02; 8:45 am]

BILLING CODE 4310-JB-P